DEPARTMENT OF JUSTICE

Antitrust Division

Notice Pursuant to the National Cooperative Research and Production Act of 1993—Consortium for Execution of Rendezvous and Servicing Operations

Notice is hereby given that, on January 28, 2019, pursuant to Section 6(a) of the National Cooperative Research and Production Act of 1993, 15 U.S.C. 4301 et seq. (“the Act”), Consortium for Execution of Rendezvous and Servicing Operations (“CONFERS”) filed written notifications simultaneously with the Attorney General and the Federal Trade Commission disclosing changes in its membership. The notifications were filed for the purpose of extending the Act's provisions limiting the recovery of antitrust plaintiffs to actual damages under specified circumstances. Specifically, Atomos Nuclear and Space Corporation, Denver, CO; Blu Haptics, Inc. d/b/a Olis Robotics, Seattle, WA; Cislunar Space Development Company, Annandale, VA; Effective-Space, London, UNITED KINGDOM; Orbit Fab, Santa Clara, CA; SES Government Solutions, Inc., Reston, VA; Space Logistics, Dulles, VA; SSL, A Maxar Technologies Company, Westminister, CO; and Tethers Unlimited, Bothell, WA, have been added as parties to this venture.

Also, the following member has changed its name: XL Catlin to AXA XL, LLC, New York, NY.

No other changes have been made in either the membership or planned activity of the group research project. Membership in this group research project remains open, and CONFERS intends to file additional written notifications disclosing all changes in membership.

On September 10, 2018, CONFERS filed its original notification pursuant to Section 6(a) of the Act. The Department of Justice published a notice in the Federal Register pursuant to Section 6(b) of the Act on October 19, 2018 (83 FR 53106).

Suzanne Morris,
Chief, Premerger and Division Statistics Unit, Antitrust Division.

[FR Doc. 2019-03876 Filed 3-4-19; 8:45 am]

BILLING CODE 4410-11-P